DEPARTMENT OF STATE

[Public Notice 6415]

Rescission of Determination Regarding North Korea

In accordance with section 6(j) of the Export Administration Act of 1979 (50 U.S.C. App. 2405(j)), and as continued in effect by Executive Order 13222 of August 17, 2001, I hereby rescind the Determination of January 20, 1988, regarding North Korea. This action is based upon the considerations contained in the memorandum accompanying the Presidential Report of June 26, 2008, regarding North Korea.

This rescission shall also satisfy the provisions of section 620A(c) of the Foreign Assistance Act of 1961, Public Law 87-195, as amended (22 U.S.C. 2371(c)), and section 40(f) of the Arms Export Control Act, Public Law 90-629, as amended (22 U.S.C. 2780(f)).

Dated: October 11, 2008.
Condoleezza Rice,
Secretary of State, Department of State.

[FR Doc. E8-25412 Filed 10-23-08; 8:45 am]

BILLING CODE 4710-30-P